DEPARTMENT OF ENERGY

Federal Energy Regulatory Commission

[Docket No. EC04-66-000]

Entergy Asset Management, Inc., Entergy Power Ventures, L.P., Warren Power, LLC, and East Texas Electric Cooperative, Inc.; Notice of Filing

February 19, 2004.

Correction

In notice document E4-391 beginning on page 8945 in the issue of Thursday, February 26, 2004, make the following correction:

On page 8945, in the third column, the docket number should read as set forth above.

[FR Doc. Z4-391 Filed 3-3-04; 8:45 am]

BILLING CODE 1505-01-D

DEPARTMENT OF TRANSPORTATION

Federal Motor Carrier Safety Administration

[Docket No. FMCSA-2002-14095]

National Environmental Policy Act Implementing Procedures

Correction

In notice document 04-4338 beginning on page 9680 in the issue of Monday, March 1, 2004, make the following correction:

On page 9680, in the first column, under EFFECTIVE DATE “March 31, 2004” should read “March 30, 2004”.

[FR Doc. C4-4338 Filed 3-3-04; 8:45 am]

BILLING CODE 1505-01-D